DEPARTMENT OF DEFENSE

Department of the Air Force

Proposed Collection; Comment Request

AGENCY: Department of the Air Force, DoD.

ACTION: Notice.

In compliance with section 3506(c)(2)(A) of the Paperwork Reduction Act of 1995, the Skills Management Branch, Air Force Personnel Center, announces the proposed reinstatement of a public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by June 11, 2001.

ADDRESSES: Written comments and recommendations on the proposed information collection should be sent to Skills Management Branch (DPPAE), Air Force Personnel Center, 550 C Street West, Suite 10, ATTN: Mrs. Blanche Thompson, Randolph AFB, TX 78150-4712.

FOR FURTHER INFORMATION CONTACT: To request more information on this proposed information collection or to obtain a copy of the proposal and associated collection instruments, please write to the above address or call Mrs. Blanche Thompson at 210-565-2461.

Title, Associated Form, and OMB Number: “Application for Appointment as Reserves of the Air Force or USAF Without Component,” Air Force (AF) Form 24, OMB number 0701-0096.

Needs and Uses: The information collection requirement is necessary for providing necessary information to determine if applicant meets qualifications established for appointment as a Reserve (Air National Guard of the United States (ANGUS) and U.S. Air Force Reserves (USAFR)) or in the USAF without component. Use of the Social Security Number (SSN) is necessary to make positive identification of an applicant and his or her records.

Affected Public: Individuals and households.

Annual Burden Hours: 5,899.

Number of Respondents: 5,899.

Responses per Respondent: 1.

Average Burden per Response: 1 Hour.

Frequency: On occasion.

SUPPLEMENTARY INFORMATION:

Summary of Information Collection

This is an information collection from person applying for appointment as a member of the Reserves of the Air Force or an Air Force member without a component and entry into active duty. The information contained on AF Form 24 supports the Air Force as it applies to direct appointment (procurement) programs for civilian and military applicants. It provides necessary information to determine if an applicant meets qualifications established for appointment to fill authorized ANGUS and USAFR position vacancies and active duty requirements. Eligibility requirements are outlined in Air Force Instruction 36-2005.

Janet A. Long,
Air Force Federal Register Liaison Officer

[FR Doc. 01-9082 Filed 4-11-01; 8:45 am]

BILLING CODE 5001-05-P